DEPARTMENT OF STATE

[Public Notice 4174]

Office of the Coordinator for Counterterrorism; Designation of Foreign Terrorist Organizations

AGENCY: Department of State.

Pursuant to section 219 of the Immigration and Nationality Act (“INA”), as added by the Antiterrorism and Effective Death Penalty Act of 1996, Pub. L. No. 104-132, § 302, 110 Stat. 1214, 1248 (1996), and amended by the Illegal Immigration Reform and Immigrant Responsibility Act of 1996, Pub. L. No. 104-208, 110 Stat. 3009 (1996) and by the Uniting and Strengthening America by Providing Appropriate Tools Required to Intercept and Obstruct Terrorism (USA PATRIOT ACT) Act of 2001, P.L. 107-56 (2001), the Secretary of State hereby designates, effective October 23, 2002, the following organization as a foreign terrorist organization: Jemaah Islamiya.

Dated: October 16, 2002.
Colin L. Powell,
Secretary of State, Department of State.

[FR Doc. 02-27146 Filed 10-22-02; 5:00 pm]

BILLING CODE 4710-10-P